DEPARTMENT OF TRANSPORTATION

Federal Aviation Administration

14 CFR Part 39

[Docket No. FAA-2005-21715; Directorate Identifier 2004-NM-277-AD; Amendment 39-14416; AD 2005-25-23]

RIN 2120-AA64

Airworthiness Directives; Boeing Model 767-200 and -300 Series Airplanes

AGENCY: Federal Aviation Administration (FAA), Department of Transportation (DOT).

ACTION: Final rule.

SUMMARY: The FAA is adopting a new airworthiness directive (AD) for certain Boeing Model 767-200 and -300 series airplanes. This AD requires measuring the turnbuckle gap of the inflation cylinder of the off-wing emergency escape slide; corrective action if necessary; and installing a safety device on the inflation cylinder of the off-wing emergency escape slide. This AD results from a report indicating that the inflation trigger cable may inadvertently disconnect from the inflation turnbuckle of the inflation cylinder of the off-wing emergency escape slide, due to incorrect spacing of the cable insertion gap; and additional reports indicating that the pull force increase mechanism on the off-wing charged cylinder assemblies of the escape slide may be inadvertently disengaged. We are issuing this AD to prevent failed deployment of the emergency escape slide during an emergency, which could impede an evacuation and result in injury to passengers or airplane crewmembers, or inadvertent inflation and loss of an emergency escape slide during flight, which could result in possible structural damage to the airplane.

DATES: This AD becomes effective January 18, 2006.

The Director of the Federal Register approved the incorporation by reference of certain publications listed in the AD as of January 18, 2006.

ADDRESSES: You may examine the AD docket on the Internet at http://dms.dot.gov or in person at the Docket Management Facility, U.S. Department of Transportation, 400 Seventh Street, SW., Nassif Building, room PL-401, Washington, DC.

Contact Boeing Commercial Airplanes, P.O. Box 3707, Seattle, Washington 98124-2207, for service information identified in this AD.

FOR FURTHER INFORMATION CONTACT: Sue Rosanske, Aerospace Engineer, Cabin Safety and Environmental Systems Branch, ANM-150S, FAA, Seattle Aircraft Certification Office, 1601 Lind Avenue, SW., Renton, Washington 98055-4056; telephone (425) 917-6448; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Boeing Model 767-200 and -300 series airplanes. That NPRM was published in the Federal Register on July 6, 2005 (70 FR 38821). That NPRM proposed to require measuring the turnbuckle gap of the inflation cylinder of the off-wing emergency escape slide; corrective action if necessary; and installing a safety device on the inflation cylinder of the off-wing emergency escape slide.

Comments

We provided the public the opportunity to participate in the development of this AD. We have considered the comments received.

Supportive Comment

One commenter concurs with the content of the NPRM.

Requests To Extend Compliance Time

Several commenters ask that the compliance time for the actions specified in paragraph (f) of the NPRM be extended to 36 months. The commenters make their requests to extend the compliance time for several reasons, including:

• To align the proposed actions with existing maintenance schedules for corresponding levels of maintenance on escape slide systems and increased efficiency and management of spare parts stocks of escape slides.

• To correspond with the compliance time specified in the Goodrich service information (referenced in the NPRM) of accomplishing the actions at the next scheduled maintenance visit.

• To be consistent with slide restoration intervals that allow the modifications of the inflation cylinder to be accomplished in a controlled shop environment. In addition, accomplishing the actions within 18 months would require operators to significantly increase spare parts stock for escape slides, which would cause an undue burden and substantial cost increase.

• To be consistent with the removal of the off-wing escape slide cylinders from the airplane for cylinder hydrostatic testing and overhaul, which eliminates the need for multiple removals. Additional removals would increase the potential for injuries to maintenance personnel and damage to parts.

We agree that the compliance time may be extended. We have reconsidered the urgency of the unsafe condition and the amount of work related to the required actions, in addition to the fact that our intent was to require the actions be accomplished during regular maintenance visits. We find that extending the compliance time from 18 to 36 months will not adversely affect safety, and, for the majority of affected operators, will allow the required actions to be performed during regularly scheduled maintenance at a base where special equipment and trained maintenance personnel will be available if necessary. We have changed the compliance time for accomplishing the actions required by paragraph (f) of this AD accordingly.

Request To Revise Goodrich Service Bulletin

Two commenters ask that Goodrich Service Bulletin 130104-25-328, Revision 1, dated July 23, 2003, referenced in the NPRM as an additional source of service information for accomplishing the actions, be revised to include a change to the part numbers for modified off-wing cylinder assemblies. One commenter states that this should be done in order to track compliance with the AD.

We disagree with the commenters' request. Revision 1 of the service bulletin already specifies a change to the part numbers for the off-wing cylinder assemblies and the regulator valve to account for the modification. The parts are identified in Table 6 of the Accomplishment Instructions of the service bulletin. We have made no change to the AD in this regard.

Request To Increase Work Hours

One commenter asks that we increase the amount of time needed to complete the proposed actions to 6 work hours per airplane.

We do not agree that it is necessary to revise the work hour estimates of the NPRM, which reflect only the actual time needed for accomplishing the actions based on the best data available from the manufacturer. The work hours do not include the time for planning, access and close, and associated administrative actions. The compliance times in this AD should allow ample time for operators to do the required actions at the same time as scheduled major airplane inspection and maintenance activities, which would reduce the additional time associated with special scheduling. We have made no change to the AD in this regard.

Clarification of Alternative Method of Compliance (AMOC) Paragraph

We have changed this AD to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

There are about 696 airplanes of the affected design in the worldwide fleet. This AD will affect about 297 airplanes of U.S. registry.

The inspection takes about 1 work hour per airplane, at an average labor rate of $65 per work hour. Based on these figures, the estimated cost of the inspection for U.S. operators is $19,305, or $65 per airplane.

The safety device installation takes about 3 work hours per airplane, at an average labor rate of $65 per work hour. Required parts cost is minimal. Based on these figures, the estimated cost of the installation for U.S. operators is $57,915, or $195 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-25-23 Boeing: Amendment 39-14416. Docket No. FAA-2005-21715; Directorate Identifier 2004-NM-277-AD.

Effective Date

(a) This AD becomes effective January 18, 2006.

Affected ADs

(b) None.

Applicability

(c) This AD applies to Boeing Model 767-200 and -300 series airplanes; certificated in any category; equipped with off-wing emergency escape slides; as identified in Boeing Special Attention Service Bulletin 767-25-0358, dated September 18, 2003; and Boeing Special Attention Service Bulletin 767-25-0317, dated June 27, 2002.

Unsafe Condition

(d) This AD was prompted by a report indicating that the inflation trigger cable may inadvertently disconnect from the inflation turnbuckle of the inflation cylinder of the off-wing emergency escape slide, due to incorrect spacing of the cable insertion gap; and additional reports indicating that the pull force increase mechanism (PFIM) on the off-wing charged cylinder assemblies of the escape slide may be inadvertently disengaged. We are issuing this AD to prevent failed deployment of the emergency escape slide during an emergency, which could impede an evacuation and result in injury to passengers or airplane crewmembers, or inadvertent inflation and loss of an emergency escape slide during flight, which could result in possible structural damage to the airplane.

Compliance

(e) You are responsible for having the actions required by this AD performed within the compliance times specified, unless the actions have already been done.

Measurement/Corrective Action

(f) Within 36 months after the effective date of this AD: Accomplish the actions specified in paragraphs (f)(1) and (f)(2) of this AD.

(1) Measure the turnbuckle gap of the inflation cylinder of the off-wing emergency escape slides to ensure it meets the maximum allowable spacing limit and do applicable corrective actions by doing all the actions specified in the Accomplishment Instructions of Boeing Special Attention Service Bulletin 767-25-0358, dated September 18, 2003. Accomplish any corrective action before further flight in accordance with the service bulletin.

(2) Install a safety device on the PFIM of the inflation cylinder of the off-wing emergency escape slides, and part-mark the inflation cylinder as applicable, by doing all the actions specified in the Accomplishment Instructions of Boeing Special Attention Service Bulletin 767-25-0317, dated June 27, 2002.

Note 1: Goodrich Service Bulletins 130104-25-342, dated July 23, 2003; and 130104-25-328, Revision 1, dated July 23, 2003; may be used as additional sources of service information for accomplishing the actions.

Parts Installation

(g) As of the effective date of this AD, no person may install an inflation cylinder of the off-wing emergency escape slides on any airplane, unless it has been modified according to paragraph (f) of this AD.

Alternative Methods of Compliance (AMOCs)

(h)(1) The Manager, Seattle Aircraft Certification Office, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Material Incorporated by Reference

(i) You must use Boeing Special Attention Service Bulletin 767-25-0358, dated September 18, 2003; and Boeing Special Attention Service Bulletin 767-25-0317, dated June 27, 2002; as applicable, to perform the actions that are required by this AD, unless the AD specifies otherwise. The Director of the Federal Register approved the incorporation by reference of these documents in accordance with 5 U.S.C. 552(a) and 1 CFR part 51. Contact Boeing Commercial Airplanes, P.O. Box 3707, Seattle, Washington 98124-2207, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on December 6, 2005.
Kevin M. Mullin,
Acting Manager, Transport Airplane Directorate, Aircraft Certification Service.

[FR Doc. 05-23957 Filed 12-13-05; 8:45 am]

BILLING CODE 4910-13-P